ENVIRONMENTAL PROTECTION AGENCY

[FRL-6872-7]

Proposed CERCLA Prospective Purchaser Agreement; Master Metals, Inc., Superfund Site; City of Cleveland, Cuyahoga County, OH

AGENCY: Environmental Protection Agency.

ACTION: Notice; request for public comment.

SUMMARY: In accordance with the Comprehensive Environmental Response, Compensation, and Liability Act, as amended (“CERCLA”), 42 U.S.C. 9601 et seq., and the authority of the Attorney General of the United States to compromise and settle claims of the United States as delegated, notice is hereby given of a proposed prospective purchaser agreement concerning a portion of the Master Metals, Inc., Superfund site at 2850 W. Third Street, Cleveland, Cuyahoga County, Ohio, 44113, with the Midwest Railway Preservation Society, Inc. (MRPS). The agreement covers approximately .4 acres of the approximately 4.3 acre site. The agreement requires MRPS to pay $2,000 to the Hazardous Substance Superfund; to grant future access rights; and to record appropriate deed notices. The agreement includes a covenant not to sue MRPS under sections 106 and 107(a) of CERCLA, 42 U.S.C. 9606 and 9607(a) and contribution protection for MRPS under section 113(f)(2), 42 U.S.C. 9613(f)(2). For thirty (30) days following the date of publication of this notice, the United States will receive written comments relating to the agreement. The United States will consider all comments received and may modify or withdraw its consent to the agreement if comments received disclose facts or considerations which indicate that the agreement is inappropriate, improper, or inadequate. The United States' response to any comments received will be available for public inspection at U.S. EPA, Region 5, 77 W. Jackson Boulevard, Chicago, IL 60604. Please contact Gwen Massenburg, Remedial Project Manager, at (312) 886-0983 to make arrangements to inspect the comments.

DATES: Comments must be submitted on or before September 19, 2000.

ADDRESSES: The proposed settlement is available for public inspection at U.S. EPA, Region 5, 77 W. Jackson Boulevard, Chicago, IL 60604. A copy of the proposed agreement may be obtained from Kris Vezner, Assistant Regional Counsel, at U.S. EPA, Region 5, 77 W. Jackson Boulevard (C-14J), Chicago, IL 60604, phone (312) 886-6827. Comments should reference the “Master Metals, Inc., Superfund Site— Cleveland—prospective purchaser agreement,” and should be addressed to Mr. Vezner.

FOR FURTHER INFORMATION CONTACT: Kris Vezner, Assistant Regional Counsel, at U.S. EPA, Region 5, 77 W. Jackson Boulevard (C-14J), Chicago, IL 60604, phone (312) 886-6827.

Dated: September 6, 2000.
William E. Muno,
Director, Superfund Division, U.S. EPA Region 5.

[FR Doc. 00-24045 Filed 9-18-00; 8:45 am]

BILLING CODE 6560-50-P